DEPARTMENT OF JUSTICE

Antitrust Division

Notice Pursuant to the National Cooperative Research and Production Act of 1993—Accellera Systems (Formerly Open Systemc Initiative)

Notice is hereby given that, on February 6, 2012, pursuant to Section 6(a) of the National Cooperative Research and Production Act of 1993, 15 U.S.C. 4301 et seq. (“the Act”), Accellera Systems (formerly Open SystemC Initiative) has filed written notifications simultaneously with the Attorney General and the Federal Trade Commission disclosing changes in its membership. The notifications were filed for the purpose of extending the Act's provisions limiting the recovery of antitrust plaintiffs to actual damages under specified circumstances. Open SystemC Initiative (“OSCI”) has changed its name to Accellera Systems Initiative (“Accellera”) through a merger whereby Accellera is the successor.

In addition, Global Unichip Corp., Hsinchu, Taiwan; CoFluent Design, Nantes, France; GreenSocs Ltd., Cambridge, United Kingdom; Infineon Technologies Austria AG, Villach, Austria; Semiconductor Technology Academic Research Center, Yokohama, Japan; Industrial Technology Research Institute, Hsinchu, Taiwan; and XtremeEDA Corporation, Ottawa, Ontario, Canada, have withdrawn as parties to this venture.

No other changes have been made in either the membership or planned activity of the group research project. Membership in this group research project remains open, and Accellera intends to file additional written notifications disclosing all changes in membership.

On October 9, 2001, OSCI filed its original notification pursuant to Section 6(a) of the Act. The Department of Justice published a notice in the Federal Register pursuant to Section 6(b) of the Act on January 3, 2002 (67 FR 350).

The last notification was filed with the Department on April 14, 2011. A notice was published in the Federal Register pursuant to Section 6(b) of the Act on May 20, 2011 (76 FR 29267).

Patricia A. Brink,
Director of Civil Enforcement, Antitrust Division.

[FR Doc. 2012-5593 Filed 3-7-12; 8:45 am]

BILLING CODE P